DEPARTMENT OF COMMERCE

Bureau of the Census

Census Advisory Committee of Professional Associations

AGENCY: Bureau of the Census, Commerce.

ACTION: Notice of public meeting.

SUMMARY: Pursuant to the Federal Advisory Committee Act (P.L. 92-463 as amended by P.L. 94-409), we are giving notice of a meeting of the Census Advisory Committee of Professional Associations. The Committee is composed of 36 members appointed by the Presidents of the American Economic Association, the American Statistical Association, the Population Association of America, and the Chairperson of the Board of the American Marketing Association. The Committee advises the Director, U.S. Census Bureau (Census Bureau), on the full range of Census Bureau programs and activities in relation to their areas of expertise.

DATES: The meeting will convene on April 26-27, 2001. On April 26, the meeting will begin at 9 a.m. and adjourn at 5:15 p.m. On April 27, the meeting will begin at 9 a.m. and adjourn at 12:30 p.m.

ADDRESSES: The meeting will take place at the Hilton Alexandria Mark Center Hotel, 5000 Seminary Road, Alexandria, Virginia 22311.

FOR FURTHER INFORMATION CONTACT: Census Bureau Committee Liaison Officer, Ms. Maxine Anderson-Brown, Room 1647, Federal Building 3, Washington, DC 20233. Her phone number is (301) 457-2308, TDD (301) 457-2540.

SUPPLEMENTARY INFORMATION: The agenda for the meeting on April 26, which will begin at 9 a.m. and adjourn at 5:15 p.m., is as follows:

• Introductory Remarks by the Acting Director, Census Bureau, and the Principal Associate Director for Programs, Census Bureau

• Census Bureau Responses to Committee Recommendations

• Next Generation Information Products for Posting on the Census Bureau Web Site at <www.census.gov>

• Census 2000 Adjustment Decision

• Survey of the Advisory Committees

• E-Business Supplement to the Annual Survey of Manufactures

• Expanding the Census Bureau Data Dissemination Network

• Insights Gained from Analysis of State Unemployment Data by Longitudinal Employer Household Dynamics Staff

• Evaluations of the Census 2000 Accuracy and Coverage Evaluation Survey

• Experimental Measures of Poverty: A Progress Report

• Evaluating Census 2000 Products

• Customer Service Week

The agenda for the meeting on April 27, which will begin at 9 a.m. and adjourn at 12:30 p.m., is as follows:

• Chief Economist Update

• 2010 Planning Update

• Develop Recommendations and Address Special Interest Activities

• Closing Session

The meeting is open to the public, and a brief period is set aside, during the closing session, for public comment and questions. Those persons with extensive questions or statements must submit them in writing to the Census Bureau Committee Liaison Officer. Individuals wishing additional information or minutes regarding this meeting may contact the Officer as well. Her address and phone number are identified under this notice's FOR FURTHER INFORMATION CONTACT heading.

This meeting is physically accessible to people with disabilities. Requests for sign language interpretation or other auxiliary aids should also be directed to the Census Bureau Committee Liaison Officer.

Dated: March 8, 2001.
William G. Barron, Jr.,
Acting Director, Bureau of the Census.

[FR Doc. 01-6325 Filed 3-13-01; 8:45 am]

BILLING CODE 3510-07-P